DEPARTMENT OF ENERGY

Federal Energy Regulatory Commission

[Docket No. RP03-116-000]

Williams Gas Pipelines Central, Inc.; Notice of Cash-Out Report

December 3, 2002.

Take notice that on November 26, 2002, Williams Gas Pipelines Central, Inc., (Central) tendered for filing its report of net revenue received from cash-outs for the period of October 1, 2002 through September 30, 2002.

Central states that pursuant to the cash-out mechanism contained in Section 9.8(a)(iv) of Central's tariff, Shippers are given the option of resolving their imbalances by the end of the calendar month following the month in which the imbalance occurred by cashing out such imbalances at 100% of the spot market price applicable to Central as published in the first issue of Inside FERC's Gas Market Report for the month in which the imbalance occurred. Net monthly imbalances which are not resolved by the end of the second month following the month in which the imbalance occurred and which exceed the tolerance specified in section 9.8(c). Central states that it is filing its report of net cash out activity, which shows net cash out costs to the company of $79,401.63 for the twelve months ended September 30, 2002.

Central states that copies of its filing was served to all jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before December 10, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-31095 Filed 12-6-02; 8:45 am]

BILLING CODE 6717-01-P